DEPARTMENT OF THE INTERIOR

Bureau of Land Management

[16X.LLID9570000.L14400000.BJ0000.241A.X.4500081115]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The supplemental plat showing the corrected bearings and distances for Tracts 37 and 38, corrected designation of Tract 39, and the removal of text for lots 9 and 10 (now Tracts 37 and 38), in sec. 23, T. 5 N., R. 6 W., Boise Meridian, Idaho, Group Number 1314, was accepted February 2, 2016.

The plat representing the dependent resurvey of portions of the north boundary and subdivisional lines, and the subdivision of section 5, T. 14 N., R. 27 E., Boise Meridian, Idaho, Group Number 1391, and the plat representing the dependent resurvey of a portion of the south boundary, and subdivisional lines, and the subdivision of sections 19 and 20, T. 15 N., R. 27 E., Boise Meridian, Idaho, Group Number 1391 were accepted February 8, 2016.

The plat representing the dependent resurvey of portions of the south and west boundaries, subdivisional lines and Mineral Survey Number 1 (lot 37, Index Number 286), and the subdivision of section 31, and the metes-and-bounds survey of lots 10-12, section 31, T. 2 N., R. 19 E., of the Boise Meridian, Idaho, Group Number 1407, was accepted March 8, 2016.

These surveys were executed at the request of the Bureau of Indian Affairs to meet certain administrative and management purposes. The lands surveyed are:

The plat representing the dependent resurvey of a portion of the subdivisional lines, and the subdivision of section 8, and a metes-and-bounds survey in the E½ of the SE¼ of the SE¼ of section 8, T. 34 N., R. 4 E., of the Boise Meridian, Idaho, Group Number 1442, was accepted February 2, 2016.

The plat representing the dependent resurvey of a portion of the subdivisional lines, and the corrective dependent resurvey of portions of the subdivisional lines and the subdivision of section 7, and the subdivision of section 8, T. 36 N., R. 3 W., Boise Meridian, Idaho, Group Number 1437, was accepted March 8, 2016.

Jeff A. Lee,
Acting Chief Cadastral Surveyor for Idaho.

[FR Doc. 2016-08731 Filed 4-14-16; 8:45 am]

BILLING CODE 4310-GG-P